DEPARTMENT OF ENERGY

Federal Energy Regulatory Commission

[Docket No. CP23-14-000]

Wyoming Interstate Company, LLC; Notice of Schedule for the Preparation of an Environmental Assessment for the Diamond Mountain Abandonment Project

On November 10, 2022, Wyoming Interstate Company LLC. (WIC) filed an application in Docket No. CP23-14-000 requesting authorization pursuant to Section 7(b) of the Natural Gas Act to abandon certain natural gas pipeline facilities. The proposed project is known as the Diamond Mountain Abandonment Project (Project) and consists of WIC's proposal to abandon in-place a compressor station and associated equipment and facilities in Uintah County, Utah. According to WIC, the proposed abandonment is due to the decline of natural gas production in the Uintah basin, and the absence of bids submitted during open season. WIC would continue to operate the existing mainline block valve at the compressor station site after the abandonment.

On November 24, 2022, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA—May 19, 2023

90-day Federal Authorization Decision Deadline ²—August 17, 2023

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

The Project is located in Uintah County, Utah. Proposed work includes disconnecting piping from compressor units, draining oil and coolant from the turbines, draining water from the domestic and heating systems, disconnecting power, removing applicable station valves and the turbine surge valve. WIC would complete all work within the existing gravel station yard and would access the station from the existing facility access roads. No ground disturbing activities are proposed. WIC would remove and repurpose components of the abandoned facility for use at other Kinder Morgan affiliate pipelines.

Background

On January 27, 2023, the Commission issued a Notice of Scoping Period Requesting Comments on Environmental Issues for the Proposed Diamond Mountain Abandonment Project and Notice of Public Scoping Session (Notice of Scoping). The Notice of Scoping was sent to affected landowners; federal, state, and local government agencies; elected officials; environmental and public interest groups; Native American tribes; other interested parties; and local libraries and newspapers. To date, the Commission has not received comments in response to the Notice of Scoping. Any substantive comments received will be addressed in the EA.

To date, there are no cooperating agencies in the preparation of the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP23-14), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: February 8, 2023.
Kimberly D. Bose,
Secretary.

[FR Doc. 2023-03106 Filed 2-13-23; 8:45 am]

BILLING CODE 6717-01-P